NUCLEAR REGULATORY COMMISSION

10 CFR Parts 170 and 171

[NRC-2013-0276]

RIN 3150-AJ32

Revision of Fee Schedules; Fee Recovery for Fiscal Year 2014; Correction

AGENCY: Nuclear Regulatory Commission.

ACTION: Final rule; correction.

SUMMARY: The U.S. Nuclear Regulatory Commission (NRC) is correcting a final rule that was published in the Federal Register (FR) on June 30, 2014, and amended the licensing, inspection, and annual fees charged to the NRC's applicants and licensees. This action is necessary to correct a typographical error in the fee category description in the Schedule of fees for materials licenses and other regulatory services, including inspections, and import and export licenses. NRC is also correcting a percentage shown for FY 2014 in Table VII, Effort Factors for Fuel Facilities.

DATES: This correction is effective August 29, 2014.

ADDRESSES: Please refer to Docket ID NRC-2013-0276 when contacting the NRC about the availability of information regarding this document. You may obtain publicly-available information related to this document using any of the following methods:

• Federal Rulemaking Web site: Go to http://www.regulations.gov and search for Docket ID NRC-2013-0276. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced

• NRC's PDR: You may examine and purchase copies of public documents at the NRC's PDR, Room O1-F21, One White Flint North, 11555 Rockville Pike, Rockville, Maryland 20852.

FOR FURTHER INFORMATION CONTACT: Arlette Howard, Office of the Chief Financial Officer, U.S. Nuclear Regulatory Commission, Washington, DC 20555-0001, telephone: 301-415-1481, email: Arlette.Howard@nrc.gov.

SUPPLEMENTARY INFORMATION: In the Federal Register of June 30, 2014, in FR Doc. 2014-15193, on pages 37129 and 37149, the following corrections are made:

1. On page 37129, in column four of the table labeled “TABLE VII—EFFORT FACTORS FOR FUEL FACILITIES, FY 2014,” the Effort factor percent for Safeguards for Gas Centrifuge Enrichment Demonstration (1.A.(2)(b)), “8.7” is corrected to read “8.4.”

§ 170.31 [Corrected]

2. On page 37149, in the first column of SCHEDULE OF MATERIALS FEES—Continued, Category of materials licenses and type of fees, in Category 1 (Appendix P, 10 CFR Part 110 Exports), under “G. Application for export of appendix P Category 1 materials requiring Executive Branch review and to obtain government-to-government consent for this process:” correct “For additional consents see” to read “For additional consents see 15.I.” In the next line, remove “15.” so that the line correctly reads “Application—new license, or amendment; or license exemption request.”

Dated at Rockville, Maryland, this 27th day of August 2014.
For the Nuclear Regulatory Commission.
Cindy Bladey,
Chief, Rules, Announcements, and Directives Branch, Division of Administrative Services, Office of Administration.

[FR Doc. 2014-20778 Filed 8-28-14; 8:45 am]

BILLING CODE 7590-01-P